SECURITIES AND EXCHANGE COMMISSION

[Release No. 34-48749; File No. SR-NYSE-2003-24]

Self-Regulatory Organizations; New York Stock Exchange, Inc.; Order Granting Approval of Proposed Rule Change and Amendment No.1 Thereto To Reduce Initial and Annual Branch Office Registration Fees, Retroactive to January 1, 2003, Charged to Member Organizations With More Than One Thousand Branch Offices

November 6, 2003.

On August 21, 2003, the New York Stock Exchange, Inc. (“NYSE” or the “Exchange”) filed with the Securities and Exchange Commission (“Commission”), pursuant to Section 19(b)(1) ¹ of the Securities Exchange Act of 1934 (the “Act”) and Rule 19b-4 ² thereunder, a proposed rule change to reduce branch office fees charged to member organizations with more than one thousand branch offices, retroactive to January 1, 2003. On September 8, 2003, the Exchange amended the proposal.³ The proposed rule change, as amended, was published for notice and comment in the Federal Register on October 3, 2003.⁴ The Commission did not receive any comment letters on the proposed rule change.

¹ 15 U.S.C. 78s(b)(1).

² 17 CFR 240.19b-4.

³ See letter from Darla C. Stuckey, Secretary, NYSE, to Nancy J. Sanow, Assistant Director, Division of Market Regulation, Commission, dated September 5, 2003 (“Amendment No. 1”).

⁴ See Securities Exchange Act Release No. 48547 (September 25, 2003), 68 FR 57497 (October 3, 2003).

The Commission finds that the proposed rule change, as amended, is consistent with the requirements of the Act and the rules and regulations thereunder applicable to a national securities exchange.⁵ In particular, the Commission finds that the proposed rule change is consistent with section 6(b)(4) of the Act, which requires that the rules of an exchange provide for the equitable allocation of reasonable dues, fees, and other charges among its members and issuers and other persons using its facilities.⁶ The Commission notes that the proposed rule change will not impose any additional charges on members, but will rather refund a portion of the fees paid by members having more than one thousand offices since January 1, 2003, as well as reduce their prospective fees. The Commission further notes that the Exchange has represented that it filed this proposal in response to member organization concerns that the current branch fee schedule is unduly burdensome for certain business models.

⁵ In approving this proposal, the Commission has considered its impact on efficiency, competition, and capital formation. 15 U.S.C. 78c(f).

⁶ 15 U.S.C. 78f(b)(4).

It is therefore ordered, pursuant to section 19(b)(2) of the Act,⁷ that the proposed rule change (SR-NYSE-2003-24), as amended by Amendment No. 1, is hereby approved.

⁷ 15 U.S.C. 78s(b)(2).

For the Commission, by the Division of Market Regulation, pursuant to delegated authority.⁸
⁸ 17 CFR 200.30-3(a)(12).
J. Lynn Taylor,
Assistant Secretary.

[FR Doc. 03-28475 Filed 11-13-03; 8:45 am]

BILLING CODE 8010-01-P